DEPARTMENT OF HEALTH AND HUMAN SERVICES

Administration for Children and Families

Proposed Information Collection Activity; Comment Request

Proposed Projects

Title: Survey on Strategies to Address Barriers and Reduce Delays in Interjurisdictional Placements.

OMB No.: New Collection.

Description: The Children's Bureau of the Administration for Children and Families (ACF) is proposing to collect information from 52 state/territory child welfare directors to assess strategies that child welfare agencies have developed to facilitate interjurisdictional placements for children in the child welfare system—primarily abused and neglected children—and to determine the supports and services needed to facilitate these placements. Respondents will be asked to assess the outcome of ACF grants intended to improve the performance of services related to interjurisdictional placements.

The Adoption and Safe Families Act (ASFA) (Pub. L. 105-89) includes new mandates on interjurisdictional resources and removing barriers to the placement of children across state lines. Collecting data from state child welfare agencies about effective strategies for facilitating interjurisdictional placements will help the Children's Bureau support efforts that complement those strategies. Data collected on the benefits and weaknesses of various strategies will help the Children's Bureau plan for future activities. Data will be collected through a web-based survey; respondents will have the option to complete the survey using a paper version.

Respondents: The 52 state/territory child welfare directors.

Annual Burden Estimates
Instrument | Number of respondents | Number of responses per respondent | Average burden hours per response | Total burden hours
Survey on Strategies to Address Barriers and Reduce Delays in Interjurisdictional Placements | 52 State/territory child welfare directors | 1 | 3.5 | 182

Estimated Total Annual Burden Hours: 182.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: April 27, 2004.
Robert Sargis,
Reports Clearance Officer.

[FR Doc. 04-10078 Filed 5-3-04; 8:45 am]

BILLING CODE 4184-01-M